SURFACE TRANSPORTATION BOARD

[Docket No. FD 36283]

Allegheny Valley Railroad Company—Temporary Trackage Rights Exemption—Norfolk Southern Railway Company

Allegheny Valley Railroad Company (AVR) has filed a verified notice of exemption under 49 CFR 1180.2(d)(8) for acquisition of nonexclusive, temporary overhead trackage rights over a rail line of Norfolk Southern Railway Company (NSR) between CP Bloom, milepost PT 351.6 +/−, and CP Home, milepost PT 347.8 +/−, in Pittsburgh, Pa., a distance of approximately 3.8 miles.

AVR states that, pursuant to a written letter Agreement for Detour of Trains for Operating Convenience (Agreement), NSR has agreed to grant the specified temporary overhead trackage rights to AVR.¹ According to AVR, the purpose of the temporary trackage rights is to accommodate AVR's detour operations over NSR's line and permit continued rail service between several of AVR's rail lines while a trestle rehabilitation project is conducted on a nearby AVR rail line.²

¹ A copy of the Agreement, dated April 23, 2019, is included in the verified notice as Exhibit 2.

² AVR states that similar temporary trackage rights were authorized by the Board in 2016 in connection with the first phase of the trestle rehabilitation. Allegheny Valley R.R.—Temp. Trackage Rights Exemption—Norfolk S. Ry., FD 36015 (STB served May 6, 2016).

The transaction may be consummated on or after May 25, 2019, the effective date of the exemption (30 days after the verified notice of exemption was filed). Under the Agreement, the temporary trackage rights will expire on September 27, 2019 (125 days after the exemption becomes effective).

As a condition to this exemption, any employees affected by the acquisition of the trackage rights will be protected by the conditions imposed in Norfolk & Western Railway—Trackage Rights—Burlington Northern, Inc., 354 I.C.C. 605 (1978), as modified in Mendocino Coast Railway—Lease & Operate—California Western Railroad, 360 I.C.C. 653 (1980), and any employees affected by the discontinuance of those trackage rights will be protected by the conditions set out in Oregon Short Line Railroad—Abandonment Portion Goshen Branch Between Firth & Ammon, in Bingham & Bonneville Counties, Idaho, 360 I.C.C. 91 (1979).

If the verified notice contains false or misleading information, the exemption is void ab initio. Petitions to revoke the exemption under 49 U.S.C. 10502(d) may be filed at any time. The filing of a petition to revoke will not automatically stay the effectiveness of the exemption. Petitions to stay must be filed by May 17, 2019 (at least seven days before the exemption becomes effective).

All pleadings, referring to Docket No. FD 36283, must be filed with the Surface Transportation Board either via e-filing or in writing addressed to 395 E Street SW, Washington, DC 20423-0001. In addition, a copy of each pleading must be served on AVR's representative, Thomas J. Litwiler, Fletcher & Sippel LLC, 29 North Wacker Drive, Suite 800, Chicago, IL 60606-3208.

Board decisions and notices are available at www.stb.gov.

Decided: May 7, 2019.
By the Board, Allison C. Davis, Acting Director, Office of Proceedings.
Regena Smith-Bernard,
Clearance Clerk.

[FR Doc. 2019-09660 Filed 5-9-19; 8:45 am]

BILLING CODE 4915-01-P